DEPARTMENT OF COMMERCE

International Trade Administration

[A-588-875]

Carbon and Alloy Steel Cut-To-Length Plate From Japan: Rescission of Antidumping Duty Administrative Review; 2018-2019

AGENCY: Enforcement and Compliance, International Trade Administration, Department of Commerce.

SUMMARY: The Department of Commerce (Commerce) is rescinding the administrative review of the antidumping duty order on carbon and alloy steel cut-to-length plate from Japan for the period May 1, 2018, through April 30, 2019, based on the timely withdrawal of the request for review.

DATES: Applicable August 21, 2019.

FOR FURTHER INFORMATION CONTACT: Hannah Falvey, AD/CVD Operations, Office V, Enforcement and Compliance, International Trade Administration, U.S. Department of Commerce, 1401 Constitution Avenue NW, Washington, DC 20230; telephone: (202) 482-4889.

Background

On May 1, 2019, Commerce published in the Federal Register a notice of opportunity to request an administrative review of the antidumping duty (AD) order on carbon and alloy steel cut-to-length plate (CTL plate) from Japan for the period May 1, 2018, through April 30, 2019.¹ On May 31, 2019, Commerce received a timely request to conduct an administrative review of the AD order on CTL plate from Japan from Hitachi Metals, Ltd. (Hitachi Metals).² On July 15, 2019, in accordance with section 751(a) of the Tariff Act of 1930, as amended (the Act), and 19 CFR 351.221(c)(1)(i), Commerce initiated an administrative review of the AD order on CTL plate from Japan with respect to Hitachi Metals.³ On August 6, 2019, Hitachi Metals timely withdrew its request for an administrative review.⁴

¹ See Antidumping or Countervailing Duty Order, Finding, or Suspended Investigation; Opportunity to Request Administrative Review, 84 FR 18479 (May 1, 2019).

² See Hitachi Metals' Letter, “Carbon and Alloy Steel Cut-To-Length Plate from Japan—Hitachi Metals' Request for Administrative Review,” dated May 31, 2019.

³ See Initiation of Antidumping and Countervailing Duty Administrative Reviews, 84 FR 33739 (July 15, 2019).

⁴ See Hitachi Metals' Letter, “Carbon and Alloy Steel Cut-To-Length Plate from Japan—Hitachi Metals' Withdrawal of Request for Administrative Review,” dated August 6, 2019.

Rescission of Review

Pursuant to 19 CFR 351.213(d)(1), Commerce will rescind an administrative review, in whole or in part, if the party that requested the review withdraws its request within 90 days of the publication date of the notice of initiation of the requested review. Hitachi Metals withdrew its request for review within the 90-day deadline. Because Commerce received no other requests for review of Hitachi Metals, and no other requests were made for a review of the AD order on CTL plate from Japan with respect to other companies, we are rescinding the administrative review covering the period May 1, 2018, through April 30, 2019, in full, in accordance with 19 CFR 351.213(d)(1).

Assessment

Commerce will instruct U.S. Customs and Border Protection (CBP) to assess AD duties on all appropriate entries of CTL plate from Japan during the period of review. For the company for which this review is rescinded, AD duties shall be assessed at rates equal to the cash deposit rate of estimated AD duties required at the time of entry, or withdrawal from warehouse, for consumption, in accordance with 19 CFR 351.212(c)(1)(i). Commerce intends to issue appropriate assessment instructions to CBP 15 days after publication of this notice in the Federal Register.

Notification to Importers

This notice serves as the only reminder to importers whose entries will be liquidated as a result of this rescission notice, of their responsibility under 19 CFR 351.402(f)(2) to file a certificate regarding the reimbursement of AD duties prior to liquidation of the relevant entries during this review period. Failure to comply with this requirement could result in the presumption that reimbursement of the AD duties occurred and the subsequent assessment of double AD duties.

Notification Regarding Administrative Protective Order

This notice also serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751 and 777(i)(l) of the Act and 19 CFR 351.213(d)(4).

Dated: August 15, 2019.
James Maeder,
Deputy Assistant Secretary for Antidumping and Countervailing Duty Operations.

[FR Doc. 2019-18014 Filed 8-20-19; 8:45 am]

BILLING CODE 3510-DS-P